FEDERAL COMMUNICATIONS COMMISSION

47 CFR Part 73

[DA 02-500, MM Docket No. 01-222, RM-10240]

Digital Television Broadcast Service; Charleston, SC

AGENCY: Federal Communications Commission.

ACTION: Final rule.

SUMMARY: The Commission, at the request of WCIV, LLC, licensee of station WCIV(TV), NTSC channel 4, Charleston, South Carolina, substitutes DTV channel 34 for DTV channel 53. See 66 FR 47903, August 14, 2001. DTV channel 34 can be allotted to Charleston in compliance with the principle community coverage requirements of section 73.625(a) at reference coordinates 32-55-28 N. and 79-41-58 W. with a power of 340, HAAT of 597 meters and with a DTV service population of 774 thousand. With is action, this proceeding is terminated.

DATES: Effective April 22, 2002.

FOR FURTHER INFORMATION CONTACT: Pam Blumenthal, Mass Media Bureau, (202) 418-1600.

SUPPLEMENTARY INFORMATION: This is a synopsis of the Commission's Report and Order, MM Docket No. 01-222, adopted March 1, 2002, and released March 6, 2002. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for part 73 continues to read as follows:

Authority: 47 U.S.C. 154, 303, 334, 336.

§ 73.622 [Amended]

2. Section 73.622(b), the Table of Digital Television Allotments under South Carolina, is amended by removing DTV channel 53 and adding DTV channel 34 at Charleston.

Federal Communications Commission.
Barbara A. Kreisman,
Chief, Video Services Division, Mass Media Bureau.

[FR Doc. 02-5849 Filed 3-11-02; 8:45 am]

BILLING CODE 6712-01-P